DEPARTMENT OF AGRICULTURE

Rural Utility Service

Notice of Request for Extension of Currently Approved Information Collection

AGENCY: Rural Utilities Service, USDA.

ACTION: Notice and request for comments.

SUMMARY: In accordance with the Paperwork Reduction Act, the Rural Utilities Service (RUS) invites comments on this information collection for which approval from the Office of Management and Budget (OMB) will be requested.

DATES: Comments on this notice must be received by February 19, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email Thomas.dickson@usda.gov.

SUPPLEMENTARY INFORMATION:

Title: Advance and Disbursement of Funds—Telecommunications.

OMB Control Number: 0572-0023.

Type of Request: Extension of a currently approved information collection package.

Abstract: The RUS manages the Telecommunications loan program and Rural Broadband Access, to provide loans and loan guarantees to fund the cost of construction, improvement, or acquisition of facilities and equipment for the provision of broadband service in eligible rural communities. RUS therefore requires Telecommunications and Broadband borrowers to submit Form 481, Financial Requirement Statement. This form implements certain provisions of the standard Rural Utilities Service loan documents by setting forth requirements and procedures to be followed by borrowers in obtaining advances and making disbursements of loan funds.

Estimate of Burden: Public reporting for this collection of information is estimated to average 1 hour per response.

Respondents: Business or other for profit, not-for-profit institutions.

Estimated Number of Respondents: 84.

Estimated Number of Responses per Respondent: 5.2.

Estimated Total Annual Burden on Respondents: 480.

Comments

Comments are invited on: (a) Whether the proposed collection of information is necessary for the proper performance of the functions of the Rural Business-Cooperative Service, including whether the information will have practical utility; (b) the accuracy of Rural Utility Service's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to: Thomas P. Dickson, Rural Development Innovation Center—Regulatory Team 2, USDA, 1400 Independence Avenue SW, STOP 1522, Room 5164, South Building, Washington, DC 20250-1522. Telephone: (202) 690-4492. Email Thomas.dickson@usda.gov. All responses to this notice will be summarized and included in the request for OMB approval. All comments will become a matter of public record.

Copies of this information collection can be obtained from Diane M. Berger, Rural Development Innovation Center—Regulatory Team, (715) 619-3124.

Dated: December 6, 2018.
Christopher A. McLean,
Acting Administrator, Rural Utilities Service.

[FR Doc. 2018-27070 Filed 12-18-18; 8:45 am]

BILLING CODE P